DEPARTMENT OF TRANSPORTATION

Office of the Secretary

Aviation Proceedings, Agreements Filed the Week Ending May 7, 2004

The following Agreements were filed with the Department of Transportation under the provisions of 49 U.S.C. 412 and 414. Answers may be filed within 21 days after the filing of the application.

Docket Number: OST-2004-17744.

Date Filed: May 7, 2004.

Parties: Members of the International Air Transport Association.

Subject: PTC2 EUR 0556 dated 11 May 2004, Within Europe Expedited Resolutions r1-r19, Intended effective date: 15 June 2004.

Andrea M. Jenkins,
Program Manager, Docket Operations, Federal Register Liaison.

[FR Doc. 04-11201 Filed 5-17-04; 8:45 am]

BILLING CODE 4910-62-P